DEPARTMENT OF ENERGY

Federal Energy Regulatory Commission

[Docket Nos. CP01-176-000, CP01-177-000, CP01-178-000, CP01-179-000]

Georgia Straits Crossing Pipeline LP.; Notice of Applications

May 4, 2001.

Take notice that on April 24, 2001, Georgia Straits Crossing Pipeline LP (GSX), P.O. 58900, Salt Lake City, Utah, 84158-0900, filed in Docket No. CP01-176-000 an application pursuant to Section 7(c) of the Natural Gas Act for authorization to construct and operate a new interstate natural gas transmission system consisting of approximately 47 miles of related pipeline and related facilities in the state of Washington; in Docket No. CP01-177-000 an application for a blanket certificate authorizing Part 284 transportation; in Docket No. CP01-178-000 an application for a blanket certificate authorizing certain routine activities under Subpart F of Part 157; and in Docket No. CP01-179-000 an application for Section 3 siting authorization for export/import facilities and a Presidential Permit authorizing the construction, operation and maintenance of interconnect facilities for imports and exports at two locations on the US/Canadian international border, all as more fully set forth in the application on file with the Commission and open to public inspection. This filing may be viewed on the web at http://www.ferc.fed.us/online/rims.htm (call 202-208-2222 for assistance).

GSX proposes the construct: (1) a 10,302 horsepower (ISO rated) compressor station at Cherry Point, Whatcom County, Washington, located adjacent to an existing industrial area approximately a mile from the Strait of Georgia shoreline; (2) approximately 32 miles of 20-inch pipeline generally paralleling existing pipeline corridors from Sumas to the proposed Cherry Point compressor station; (3) approximately 15 miles of 16-inch pipeline from the Cherry Point compressor station to an offshore interconnect with a Canadian pipeline proposed to be built by GSX Canada Limited Partnership (GSX-Canada) from that interconnect to a delivery point into the distribution system of Central Gas British Columbia Inc. on Vancouver Island; (4) receipt point meter station facilities interconnecting with Westcoast Energy Inc. at the Canadian border and with Northwest Pipeline Corporation, both near Sumas; and (5) appurtenant facilities. GSX estimates the total cost of the proposed facilities at approximately $90.7-million.

GSX states that the initial firm design capacity of its system will be approximately 94,000 Dth per day. It is indicated that as a result of an open season, Powerex Corporation (Powerex), an affiliate of British Columbia Hydro and Power Authority (BC hydro), executed a binding precedent agreement for all of the initial certificated design capacity for a 30-year term, at negotiated rates. GSX avers that Powerex requires the capacity to meet the obligations of BC Hydro to supply natural gas fuel to two new generating plants on Vancouver Island. Further, GSX states that its system is designed to facilitate relatively inexpensive expansions, by compression upgrades, to accommodate future market growth on Vancouver Island and in northwestern Washington state.

GSX states that its proposal and that of GSX-Canada comprise the international Georgia Strait Crossing Project. GSX indicates that pursuant to the GSC Project Agreement between GSX and its sponsor, Williams Gas Pipeline Company (Williams), and GSX-Canada and its sponsor, British Columbia Hydro and Power Authority (BC Hydro), the owners have agreed to coordinate certain decisions regarding the construction and operation of GSX and GSX-Canada through a GSX Committee. GSX also states that subject to the owners and through the GSX Committee on matters within the committee's purview, GSX Operating Company, L.L.C., an wholly owned subsidiary of Williams, will design and engineer, manage the procurement and construction, operate and maintain and manage the day-to-day business affairs of both GSX and GSX-Canada pipeline, as a contractor for the owners.

GSX proposes a pro forma Tariff which includes its proposed Rate Schedules FT-1 for firm service and IT-1 for interruptible service. GSX proposes traditional cost-of-service based rates for its initial recourse rates. GSX states that its proposed rates reflect a 70% debt, 30% equity capital structure, 8% interest on debt, 14% return on equity and a 30 year depreciation life. GSX avers that its proposed rates are designed under the straight fixed variable methodology using a quantity/distance cost allocation to establish rates for two zones, one for mainland U.S. delivers and one for deliveries to GSX-Canada. GSX also states that the proposed initial recourse maximum daily reservation rates are $0.36546 per Dth of contract demand for service to mainland U.S. points and $0.51233 per Dth of contract demand for service to the GSX-Canada interconnect.

GSX requests that the Commission issue a preliminary determination on the non-environmental aspects of the application by January 31, 2002 and a final order granting the requested certificate authorization by May 31, 2002 so that the project may be completed by the late October 2003 in-service date required to ensure Powerex's ability to meet the long-tern gas supply commitments of BC Hydro to the new electricity generation facilities on Vancouver Island.

Any questions regarding the application should be directed to Gary K. Kotter, Manger, Certificates, GSX Pipeline, L.L.C., P.O. Box 58900, Salt Lake City, Utah 84158-0900, (801) 584-7117.

There are two ways to become involved in the Commission's review of this project. First, any person wishing to obtain legal status by becoming a party to the proceedings for this project should, on or before May 25, 2001, file with the Federal Energy Regulatory Commission, 888 First Street, NE, Washington, D.C. 20426, a motion to intervene in accordance with the requirements of the Commission's Rules of Practice and Procedure (18 CFR 385.214 or 385.211) and the Regulations under the NGA (18 CFR 157.10). A person obtaining party status will be place on the service list maintained by the Secretary of the Commission and will receive copies of all documents filed by the applicant and by all other parties. A party must submit 14 copies of filings made with the Commission and must mail a copy to the applicant and to every other party in the proceeding.

Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding.The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. The preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts form this proposal, it is important either to file comments or to intervene as early in the process as possible.

Also, comments protests, and interventions may be filed electronically via the internet in lieu of paper. See, CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-11773 Filed 5-9-01; 8:45 am]

BILLING CODE 6717-01-M